DEPARTMENT OF COMMERCE

National Oceanic and Atmospheric Administration

50 CFR Part 229

[Docket No. 150306230-5230-01]

RIN 0648-BE88

List of Fisheries for 2016

AGENCY: National Marine Fisheries Service (NMFS), National Oceanic and Atmospheric Administration (NOAA), Commerce.

ACTION: Proposed rule.

SUMMARY: The National Marine Fisheries Service (NMFS) publishes its proposed List of Fisheries (LOF) for 2016, as required by the Marine Mammal Protection Act (MMPA). The proposed LOF for 2016 reflects new information on interactions between commercial fisheries and marine mammals. NMFS must classify each commercial fishery on the LOF into one of three categories under the MMPA based upon the level of mortality and serious injury of marine mammals that occurs incidental to each fishery. The classification of a fishery on the LOF determines whether participants in that fishery are subject to certain provisions of the MMPA, such as registration, observer coverage, and take reduction plan (TRP) requirements. In addition, NMFS begins publishing online fact sheets for Category III fisheries.

DATES: Comments must be received by October 29, 2015.

ADDRESSES: You may submit comments on this document, identified by NOAA-NMFS-2015-0055, by either of the following methods:

• Electronic Submission: Submit all electronic public comments via the Federal e-Rulemaking Portal

1. Go to www.regulations.gov/#!docketDetail;D=NOAA-NMFS-2015-0055,

2. Click the “Comment Now!” icon, complete the required fields

3. Enter or attach your comments.

• Mail: Submit written comments to Chief, Marine Mammal and Sea Turtle Conservation Division, Office of Protected Resources, NMFS, 1315 East-West Highway, Silver Spring, MD 20910.

Instructions: Comments sent by any other method, to any other address or individual, or received after the end of the comment period, may not be considered by NMFS. All comments received are a part of the public record and will generally be posted for public viewing on www.regulations.gov without change. All personal identifying information (e.g., name, address, etc.), confidential business information, or otherwise sensitive information submitted voluntarily by the sender will be publicly accessible. NMFS will accept anonymous comments (enter N/A in the required fields if you wish to remain anonymous).

FOR FURTHER INFORMATION CONTACT: Lisa White, Office of Protected Resources, 301-427-8494; Allison Rosner, Greater Atlantic Region, 978-281-9328; Jessica Powell, Southeast Region, 727-824-5312; Elizabeth Petras, West Coast Region (CA), 206-526-6155; Brent Norberg, West Coast Region (WA/OR), 206-526-6550; Bridget Mansfield, Alaska Region, 907-586-7642; Nancy Young, Pacific Islands Region, 808-725-5156. Individuals who use a telecommunications device for the hearing impaired may call the Federal Information Relay Service at 1-800-877-8339 between 8 a.m. and 4 p.m. Eastern time, Monday through Friday, excluding Federal holidays.

SUPPLEMENTARY INFORMATION:

What is the list of fisheries?

Section 118 of the MMPA requires NMFS to place all U.S. commercial fisheries into one of three categories based on the level of incidental mortality and serious injury of marine mammals occurring in each fishery (16 U.S.C. 1387(c)(1)). The classification of a fishery on the LOF determines whether participants in that fishery may be required to comply with certain provisions of the MMPA, such as registration, observer coverage, and take reduction plan requirements. NMFS must reexamine the LOF annually, considering new information in the Marine Mammal Stock Assessment Reports (SARs) and other relevant sources, and publish in the Federal Register any necessary changes to the LOF after notice and opportunity for public comment (16 U.S.C. 1387 (c)(1)(C)).

How does NMFS determine in which category a fishery is placed?

The definitions for the fishery classification criteria can be found in the implementing regulations for section 118 of the MMPA (50 CFR 229.2). The criteria are also summarized here.

Fishery Classification Criteria

The fishery classification criteria consist of a two-tiered, stock-specific approach that first addresses the total impact of all fisheries on each marine mammal stock and then addresses the impact of individual fisheries on each stock. This approach is based on consideration of the rate, in numbers of animals per year, of incidental mortalities and serious injuries of marine mammals due to commercial fishing operations relative to the potential biological removal (PBR) level for each marine mammal stock. The MMPA (16 U.S.C. 1362 (20)) defines the PBR level as the maximum number of animals, not including natural mortalities, that may be removed from a marine mammal stock while allowing that stock to reach or maintain its optimum sustainable population. This definition can also be found in the implementing regulations for section 118 of the MMPA (50 CFR 229.2).

Tier 1: Tier 1 considers the cumulative fishery mortality and serious injury for a particular stock. If the total annual mortality and serious injury of a marine mammal stock, across all fisheries, is less than or equal to 10 percent of the PBR level of the stock, all fisheries interacting with the stock will be placed in Category III (unless those fisheries interact with other stock(s) in which total annual mortality and serious injury is greater than 10 percent of PBR). Otherwise, these fisheries are subject to the next tier (Tier 2) of analysis to determine their classification.

Tier 2: Tier 2 considers fishery-specific mortality and serious injury for a particular stock.

Category I: Annual mortality and serious injury of a stock in a given fishery is greater than or equal to 50 percent of the PBR level (i.e., frequent incidental mortality and serious injury of marine mammals).

Category II: Annual mortality and serious injury of a stock in a given fishery is greater than 1 percent and less than 50 percent of the PBR level (i.e., occasional incidental mortality and serious injury of marine mammals).

Category III: Annual mortality and serious injury of a stock in a given fishery is less than or equal to 1 percent of the PBR level (i.e., a remote likelihood of or no known incidental mortality and serious injury of marine mammals).

Additional details regarding how the categories were determined are provided in the preamble to the final rule implementing section 118 of the MMPA (60 FR 45086, August 30, 1995).

Because fisheries are classified on a per-stock basis, a fishery may qualify as one Category for one marine mammal stock and another Category for a different marine mammal stock. A fishery is typically classified on the LOF at its highest level of classification (e.g., a fishery qualifying for Category III for one marine mammal stock and for Category II for another marine mammal stock will be listed under Category II). Stocks driving a fishery's classification are denoted with a superscript “1” in Tables 1 and 2.

Other Criteria That May Be Considered

The tier analysis requires a minimum amount of data, and NMFS does not have sufficient data to perform a tier analysis on certain fisheries. Therefore, NMFS has classified certain fisheries by analogy to other Category I or II fisheries that use similar fishing techniques or gear that are known to cause mortality or serious injury of marine mammals, or according to factors discussed in the final LOF for 1996 (60 FR 67063, December 28, 1995) and listed in the regulatory definition of a Category II fishery: “In the absence of reliable information indicating the frequency of incidental mortality and serious injury of marine mammals by a commercial fishery, NMFS will determine whether the incidental mortality or serious injury is `frequent,' `occasional,' or `remote' by evaluating other factors such as fishing techniques, gear used, methods used to deter marine mammals, target species, seasons and areas fished, qualitative data from logbooks or fisher reports, stranding data, and the species and distribution of marine mammals in the area, or at the discretion of the Assistant Administrator for Fisheries” (50 CFR 229.2).

Further, eligible commercial fisheries not specifically identified on the LOF are deemed to be Category II fisheries until the next LOF is published (50 CFR 229.2).

How does NMFS determine which species or stocks are included as incidentally killed or injured in a fishery?

The LOF includes a list of marine mammal species and/or stocks incidentally killed or injured in each commercial fishery. The list of species and/or stocks incidentally killed or injured includes “serious” and “non-serious” documented injuries as described later in the List of Species and/or Stocks Incidentally Killed or Injured in the Pacific Ocean and the Atlantic Ocean, Gulf of Mexico, and Caribbean sections. To determine which species or stocks are included as incidentally killed or injured in a fishery, NMFS annually reviews the information presented in the current SARs and injury determination reports. The SARs are based upon the best available scientific information and provide the most current and inclusive information on each stock's PBR level and level of interaction with commercial fishing operations. The best available scientific information used in the SARs reviewed for the 2016 LOF generally summarizes data from 2008-2012. NMFS also reviews other sources of new information, including injury determination reports, bycatch estimation reports, observer data, logbook data, stranding data, disentanglement network data, fisher self-reports (i.e. MMPA reports), and anecdotal reports from that time period. In some cases, more recent information may be available, but in an effort to be consistent with the most recent SARs and across the LOF, NMFS typically restricts the analysis to data within the five-year time period summarized in the current SAR.

For fisheries with observer coverage, species or stocks are generally removed from the list of marine mammal species and/or stocks incidentally killed or injured if no interactions are documented in the five-year timeframe summarized in that year's LOF. For fisheries with no observer coverage and for observed fisheries with evidence indicating that undocumented interactions may be occurring (e.g., fishery has low observer coverage and stranding network data include fisheries that cannot be attributed to a specific fishery) species and stocks may be retained for longer than five years. For these fisheries, NMFS will review the other sources of information listed above and use its discretion to decide when it is appropriate to remove a species or stock.

Where does NMFS obtain information on the level of observer coverage in a fishery on the LOF?

The best available information on the level of observer coverage and the spatial and temporal distribution of observed marine mammal interactions is presented in the SARs. Data obtained from the observer program and observer coverage levels are important tools in estimating the level of marine mammal mortality and serious injury in commercial fishing operations. Starting with the 2005 SARs, each SAR includes an appendix with detailed descriptions of each Category I and II fishery on the LOF, including the observer coverage in those fisheries. The SARs generally do not provide detailed information on observer coverage in Category III fisheries because, under the MMPA, Category III fisheries are generally not required to accommodate observers aboard vessels due to the remote likelihood of mortality and serious injury of marine mammals. Fishery information presented in the SARs' appendices and other resources referenced during the tier analysis may include: Level of observer coverage, target species, levels of fishing effort, spatial and temporal distribution of fishing effort, characteristics of fishing gear and operations, management and regulations, and interactions with marine mammals. Copies of the SARs are available on the NMFS Office of Protected Resources Web site at: http://www.nmfs.noaa.gov/pr/sars/. Information on observer coverage levels in Category I, II, and III fisheries can be found in the fishery fact sheets on the NMFS Office of Protected Resources' Web site: http://www.nmfs.noaa.gov/pr/interactions/fisheries/lof.html. Additional information on observer programs in commercial fisheries can be found on the NMFS National Observer Program's Web site: http://www.st.nmfs.gov/st4/nop/.

How do I find out if a specific fishery is in Category I, II, or III?

This rule includes three tables that list all U.S. commercial fisheries by LOF Category. Table 1 lists all of the commercial fisheries in the Pacific Ocean (including Alaska); Table 2 lists all of the commercial fisheries in the Atlantic Ocean, Gulf of Mexico, and Caribbean; and Table 3 lists all U.S.-authorized commercial fisheries on the high seas. A fourth table, Table 4, lists all commercial fisheries managed under applicable take reduction plans (TRPs) or take reduction teams (TRTs).

Are high seas fisheries included on the LOF?

Beginning with the 2009 LOF, NMFS includes high seas fisheries in Table 3 of the LOF, along with the number of valid High Seas Fishing Compliance Act (HSFCA) permits in each fishery. As of 2004, NMFS issues HSFCA permits only for high seas fisheries analyzed in accordance with the National Environmental Policy Act (NEPA) and the Endangered Species Act (ESA). The authorized high seas fisheries are broad in scope and encompass multiple specific fisheries identified by gear type. For the purposes of the LOF, the high seas fisheries are subdivided based on gear type (e.g., trawl, longline, purse seine, gillnet, troll, etc.) to provide more detail on composition of effort within these fisheries. Many fisheries operate in both U.S. waters and on the high seas, creating some overlap between the fisheries listed in Tables 1 and 2 and those in Table 3. In these cases, the high seas component of the fishery is not considered a separate fishery, but an extension of a fishery operating within U.S. waters (listed in Table 1 or 2). NMFS designates those fisheries in Tables 1, 2, and 3 by a “*” after the fishery's name. The number of HSFCA permits listed in Table 3 for the high seas components of these fisheries operating in U.S. waters does not necessarily represent additional effort that is not accounted for in Tables 1 and 2. Many vessels/participants holding HSFCA permits also fish within U.S. waters and are included in the number of vessels and participants operating within those fisheries in Tables 1 and 2.

HSFCA permits are valid for five years, during which time Fishery management plans (FMPs) can change. Therefore, some vessels/participants may possess valid HSFCA permits without the ability to fish under the permit because it was issued for a gear type that is no longer authorized under the most current FMP. For this reason, the number of HSFCA permits displayed in Table 3 is likely higher than the actual U.S. fishing effort on the high seas. For more information on how NMFS classifies high seas fisheries on the LOF, see the preamble text in the final 2009 LOF (73 FR 73032; December 1, 2008). Additional information about HSFCA permits can be found at: http://www.nmfs.noaa.gov/ia/permits/highseas.html.

Where can I find specific information on fisheries listed on the LOF?

Starting with the 2010 LOF, NMFS developed summary documents, or fishery fact sheets, for each Category I and II fishery on the LOF. These fishery fact sheets provide the full history of each Category I and II fishery, including: When the fishery was added to the LOF, the basis for the fishery's initial classification, classification changes to the fishery, changes to the list of species and/or stocks incidentally killed or injured in the fishery, fishery gear and methods used, observer coverage levels, fishery management and regulation, and applicable TRPs or TRTs, if any. These fishery fact sheets are updated after each final LOF and can be found under “How Do I Find Out if a Specific Fishery is in Category I, II, or III?” on the NMFS Office of Protected Resources' Web site: http://www.nmfs.noaa.gov/pr/interactions/fisheries/lof.html, linked to the “List of Fisheries by Year” table. NMFS is developing similar fishery fact sheets for each Category III fishery on the LOF. However, due to the large number of Category III fisheries on the LOF and the lack of accessible and detailed information on many of these fisheries, the development of these fishery fact sheets is taking significant time to complete. NMFS will begin posting Category III fishery fact sheets online with the proposed 2016 LOF.

Am I required to register under the MMPA?

Owners of vessels or gear engaging in a Category I or II fishery are required under the MMPA (16 U.S.C. 1387(c)(2)), as described in 50 CFR 229.4, to register with NMFS and obtain a marine mammal authorization to lawfully take non-endangered and non-threatened marine mammals incidental to commercial fishing operations. Owners of vessels or gear engaged in a Category III fishery are not required to register with NMFS or obtain a marine mammal authorization.

How do I register and receive my MMAP authorization certificate?

NMFS has integrated the MMPA registration process, implemented through the Marine Mammal Authorization Program (MMAP), with existing state and Federal fishery license, registration, or permit systems for Category I and II fisheries on the LOF. Participants in these fisheries are automatically registered under the MMAP and are not required to submit registration or renewal materials. In the Pacific Islands, West Coast, and Alaska regions, NMFS will issue vessel or gear owners an authorization certificate via U.S. mail or with their state or Federal license or permit at the time of issuance or renewal. In the Greater Atlantic Region, NMFS will issue vessel or gear owners an authorization certificate via U.S. mail automatically at the beginning of each calendar year. Certificates may also be obtained by visiting the Greater Atlantic Regional Office Web site (http://www.greateratlantic.fisheries.noaa.gov/Protected/mmp/mmap/). In the Southeast Region, NMFS will issue vessel or gear owners notification of registry and vessel or gear owners may receive their authorization certificate by contacting the Southeast Regional Office at 727-209-5952 or by visiting the Southeast Regional Office Web site (http://sero.nmfs.noaa.gov/protected_resources/marine_mammal_authorization_program/) and following the instructions for printing the certificate.

The authorization certificate, or a copy, must be on board the vessel while it is operating in a Category I or II fishery, or for non-vessel fisheries, in the possession of the person in charge of the fishing operation (50 CFR 229.4(e)). Although efforts are made to limit the issuance of authorization certificates to only those vessel or gear owners that participate in Category I or II fisheries, not all state and Federal license or permit systems distinguish between fisheries as classified by the LOF. Therefore, some vessel or gear owners in Category III fisheries may receive authorization certificates even though they are not required for Category III fisheries. Individuals fishing in Category I and II fisheries for which no state or Federal license or permit is required must register with NMFS by contacting their appropriate Regional Office (see ADDRESSES).

How do I renew my registration under the MMAP?

In Alaska regional and Greater Atlantic regional fisheries, registrations of vessel or gear owners are automatically renewed and participants should receive an authorization certificate by January 1 of each new year. In Pacific Islands regional fisheries, vessel or gear owners receive an authorization certificate by January 1 for state fisheries and with their permit renewal for federal fisheries. In West Coast regional fisheries, vessel or gear owners receive authorization with each renewed state fishing license, the timing of which varies based on target species. Vessel or gear owners who participate in fisheries in these regions and have not received authorization certificates by January 1 or with renewed fishing licenses must contact the appropriate NMFS Regional Office (see FOR FURTHER INFORMATION CONTACT).

In Southeast regional fisheries, vessel or gear owners' registrations are automatically renewed and participants will receive a letter in the mail by January 1 instructing them to contact the Southeast Regional Office to have an authorization certificate mailed to them or to visit the Southeast Regional Office Web site (http://sero.nmfs.noaa.gov/protected_resources/marine_mammal_authorization_program/) to print their own certificate.

Am I required to submit reports when I kill or injure a marine mammal during the course of commercial fishing operations?

In accordance with the MMPA (16 U.S.C. 1387(e)) and 50 CFR 229.6, any vessel owner or operator, or gear owner or operator (in the case of non-vessel fisheries), participating in a fishery listed on the LOF must report to NMFS all incidental mortalities and injuries of marine mammals that occur during commercial fishing operations, regardless of the category in which the fishery is placed (I, II, or III) within 48 hours of the end of the fishing trip or, in the case of non-vessel fisheries, fishing activity. “Injury” is defined in 50 CFR 229.2 as a wound or other physical harm. In addition, any animal that ingests fishing gear or any animal that is released with fishing gear entangling, trailing, or perforating any part of the body is considered injured, regardless of the presence of any wound or other evidence of injury, and must be reported.

Mortality/injury reporting forms and instructions for submitting forms to NMFS can be found at: http://www.nmfs.noaa.gov/pr/interactions/mmap/#form or by contacting the appropriate Regional office (see FOR FURTHER INFORMATION). Forms may be submitted via any of the following means: (1) Online using the electronic form, (2) emailed as an attachment to nmfs.mireport@noaa.gov, (3) faxed to the NMFS Office of Protected Resources at 301-713-0376, or (4) mailed to the NMFS Office of Protected Resources (mailing address is provided on the postage-paid form that can be printed from the Web address listed above). Reporting requirements and procedures can be found in 50 CFR 229.6.

Am I required to take an observer aboard my vessel?

Individuals participating in a Category I or II fishery are required to accommodate an observer aboard their vessel(s) upon request from NMFS. MMPA section 118 states that the Secretary is not required to place an observer on a vessel if the facilities for quartering an observer or performing observer functions are so inadequate or unsafe that the health or safety of the observer or the safe operation of the vessel would be jeopardized; thereby authorizing the exemption of vessels too small to accommodate an observer from this requirement. However, U.S. Atlantic Ocean, Caribbean, or Gulf of Mexico large pelagics longline vessels operating in special areas designated by the Pelagic Longline Take Reduction Plan implementing regulations (50 CFR 229.36(d)) will not be exempted from observer requirements, regardless of their size. Observer requirements can be found in 50 CFR 229.7.

Am I required to comply with any marine mammal take reduction plan regulations?

Table 4 in this rule provides a list of fisheries affected by TRPs and TRTs. TRP regulations can be found at 50 CFR 229.30 through 229.37. A description of each TRT and copies of each TRP can be found at: http://www.nmfs.noaa.gov/pr/interactions/trt/teams.html. It is the responsibility of fishery participants to comply with applicable take reduction regulations.

Where can I find more information about the LOF and the MMAP?

Information regarding the LOF and the Marine Mammal Authorization Program, including: registration procedures and forms; current and past LOFs; descriptions of each Category I and II fishery, and some Category III fisheries; observer requirements; and marine mammal mortality/injury reporting forms and submittal procedures; may be obtained at: http://www.nmfs.noaa.gov/pr/interactions/fisheries/lof.html, or from any NMFS Regional Office at the addresses listed below:

NMFS, Greater Atlantic Regional Fisheries Office, 55 Great Republic Drive, Gloucester, MA 01930-2298, Attn: Allison Rosner;

NMFS, Southeast Region, 263 13th Avenue South, St. Petersburg, FL 33701, Attn: Jessica Powell;

NMFS, West Coast Region, Seattle Office, 7600 Sand Point Way NE., Seattle, WA 98115, Attn: Elizabeth Petras or Brent Norberg, Protected Resources Division;

NMFS, Alaska Region, Protected Resources, P.O. Box 22668, 709 West 9th Street, Juneau, AK 99802, Attn: Bridget Mansfield; or

NMFS, Pacific Islands Regional Office, Protected Resources Division, 1845 Wasp Blvd., Building 176, Honolulu, HI 96818, Attn: Nancy Young.

Sources of Information Reviewed for the 2016 LOF

NMFS reviewed the marine mammal incidental mortality and serious injury information presented in the SARs for all fisheries to determine whether changes in fishery classification are warranted. The SARs are based on the best scientific information available at the time of preparation, including the level of mortality and serious injury of marine mammals that occurs incidental to commercial fishery operations and the PBR levels of marine mammal stocks. The information contained in the SARs is reviewed by regional Scientific Review Groups (SRGs) representing Alaska, the Pacific (including Hawaii), and the U.S. Atlantic, Gulf of Mexico, and Caribbean. The SRGs were created by the MMPA to review the science that informs the SARs, and to advise NMFS on marine mammal population status, trends, and stock structure, uncertainties in the science, research needs, and other issues.

NMFS also reviewed other sources of new information, including marine mammal stranding data, observer program data, fisher self-reports through the Marine Mammal Authorization Program, reports to the SRGs, conference papers, FMPs, and ESA documents.

The LOF for 2016 was based on, among other things, stranding data; fisher self-reports; and SARs, primarily the 2014 SARs, which are generally based on data from 2008-2012. The final SARs referenced in this LOF include: 2013 (79 FR 49053, August 19, 2014) and 2014 (80 FR 50599, August 20, 2015). The SARs are available at: http://www.nmfs.noaa.gov/pr/sars/.

Summary of Changes to the LOF for 2016

The following summarizes proposed changes to the LOF for 2016, including the fisheries listed in the LOF, the estimated number of vessels/persons in a particular fishery, and the species and/or stocks that are incidentally killed or injured in a particular fishery. The proposed LOF for 2016 proposes three re-classifications of the fisheries provided in the LOF for 2015. NMFS proposes changes to the list of species and/or stocks killed or injured in certain fisheries and the estimated number of vessels/persons in certain fisheries, as well as certain administrative changes. Additionally, NMFS proposes adding two Category III fisheries to the LOF and removing six fisheries from the LOF. Most Category III fisheries on the LOF have never been described in the LOF. While detailed information describing each fishery in the LOF is included within the SARs, a Fishery Management Plan, or a TRP, or by state agencies, general descriptive information is important to include in the LOF for improved clarity. NMFS is developing Category III fishery fact sheets that will be available online at: http://www.nmfs.noaa.gov/pr/interactions/fisheries/lof.html. NMFS is requesting public comment on fact sheet content. The classifications and definitions of U.S. commercial fisheries for 2016 are identical to those provided in the LOF for 2015 with the proposed changes discussed below. State and regional abbreviations used in the following paragraphs include: AK (Alaska), BSAI (Bering Sea and Aleutian Islands), CA (California), DE (Delaware), FL (Florida), GMX (Gulf of Mexico), HI (Hawaii), MA (Massachusetts), ME (Maine), NC (North Carolina), NY (New York), OR (Oregon), RI (Rhode Island), SC (South Carolina), VA (Virginia), WA (Washington), and WNA (Western North Atlantic).

Commercial Fisheries in the Pacific Ocean

Classification of Fisheries

NMFS proposes to reclassify the Category III Alaska Bering Sea/Aleutian Island Pacific Cod Longline Fishery as Category II. Category II classification for this fishery is driven by a 2012 take of Gulf of Alaska, Bering Sea/Aleutian Islands transient stock of killer whales. Based on the most recent five years of available information, annual mortality and serious injury of the Gulf of Alaska, Bering Sea/Aleutian Islands transient stock of killer whales across all fisheries is 1 per year, which is 17 percent of the PBR of 5.87. Mortality and serious injury of this stock by this fishery is 0.2 per year, which is 3.41 percent of the PBR of 5.87 (Helker et al., 2015). Mortality and serious injury levels greater than 1 percent and less than 50 percent of PBR meet the Category II threshold. Therefore, NMFS proposes to reclassify the Alaska Bering Sea/Aleutian Island Pacific Cod Longline Fishery as a Category II fishery.

NMFS proposes to reclassify the Category II Alaska Kodiak Salmon Purse Seine Fishery as Category III. No mortalities or serious injuries to marine mammal stocks by this fishery have been documented during the most recent five years of available information. Therefore, NMFS proposes to reclassify the Alaska Kodiak Salmon Purse Seine Fishery as a Category III fishery.

NMFS proposes to reclassify the Category II Alaska Cook Inlet Salmon Purse Seine Fishery as Category III. No mortalities or serious injuries to marine mammal stocks by this fishery have been documented during the most recent five years of available information. Therefore, NMFS proposes to reclassify the Alaska Cook Inlet Salmon Purse Seine Fishery as a Category III fishery.

Addition of Fisheries

NMFS proposes to add the CA sea cucumber trawl fishery to the LOF as Category III. NMFS reviewed the recently published Magnuson-Stevens Fishery Conservation and Management Act List of Authorized Fisheries and Gear (79 FR 76914, December 23, 2014) and spoke with the California Department of Fish and Wildlife (CDF&W) and determined that this fishery was not included in the MMPA LOF. This is one of two gear types authorized by the state of California to commercially harvest sea cucumber. Most of the effort with trawls occurs in southern California. NMFS proposes to list this fishery as Category III analogous to the WA/OR/CA shrimp trawl fishery because the fisheries use similar fishing techniques, habitat, and gear. There were 16 permits issued for this fishery in 2013.

NMFS proposes to add the WA/OR Mainstem Columbia River eulachon gillnet fishery to the LOF as Category III. NMFS spoke with the Washington Department of Fish and Wildlife (WDF&W) and Oregon Department of Fish and Wildlife (OD&W) and determined this fishery was not previously on the LOF. Eulachon smelt were historically harvested in target fisheries in the Columbia River. As a result of the eulachon listing under the Endangered Species Act in 2010 commercial harvest was prohibited. The commercial fishery using dip net gear was closed in 2011 through 2013. In 2014 and 2015 a small-scale, research-based commercial eulachon fishery using gillnet gear was re-established to collect biological and catch per unit effort data. NMFS proposes to list this as Category III by analogy to other gillnet fisheries because the fisheries use similar fishing techniques, habitat, and gear. There are currently 15 participants in this fishery.

Removal of Fisheries

NMFS proposes to remove the Category III WA/OR herring, smelt, shad, sturgeon, bottom fish, mullet, perch, rockfish gillnet fishery from the LOF. NMFS spoke with WDF&W and ODF&W and was advised that gillnet is not legal for any ocean fishing off of Washington or Oregon.

NMFS proposes to remove the Category III WA/OR smelt, herring dip net fishery from the LOF. Harvesting smelt and herring off Oregon is allowed but this gear type is not utilized. Herring harvest off Washington is closed. Smelt can be harvested off Washington using dip net gear; however, there are currently no participants in the fishery.

Fishery Name and Organizational Changes and Clarification

NMFS proposes to rename the Category III “WA (all species) beach seine or drag seine” as the “WA/OR Lower Columbia River salmon seine” fishery. Drag seine is not an authorized gear in Oregon. While authorized in Washington, it is not active. In 2014, a pilot commercial seine fishery was implemented in the mainstem Columbia River downstream of Bonneville Dam. The pilot fishery was conducted to address research-related questions regarding use of this gear type in a new commercial fishery. A total of 10 fishers using seine gear (4 purse seine and 6 beach seine) were permitted for the 2014 pilot fishery.

NMFS proposes to split three fisheries from the Category III “AK North Pacific halibut, AK bottom fish, WA/OR/CA albacore, groundfish, bottom fish, CA halibut non-salmonid troll” fishery and rename them as: “WA/OR/CA albacore surface hook and line/troll” fishery, “CA halibut hook and line/handline” fishery, and “CA White seabass hook and line/handline” fishery and remove the remaining fisheries in the group. The WA/OR/CA albacore surface hook and line/troll fishery uses surface hook and line and/or troll gear and is managed under the Fishery Management Plan (FMP) of U.S. West Coast Fisheries for Highly Migratory Species. There is effort in this fishery along the entire coast and landings can be made in any of the three states. The number of vessels making landing in 2013 was 705. The CA halibut hook and line/handline fishery is managed by the CDF&W and is one of three gear types authorized by the state of California to commercially harvest CA halibut (along with gillnet and trawl). It is a not restrictive fishery and no special permits are required. Most landings occur in the San Francisco Bay area. The CA white seabass hook and line/handline fishery is managed by the CDF&W and is one of two gear types authorized by the state of California to commercially harvest CA white seabass (along with gillnets). There are no special permits required in this fishery. Most effort occurs in Southern California.

NMFS proposes to combine the Category III “CA anchovy, mackerel, sardine purse seine” and “WA/OR sardine purse seine” fisheries and name it the “CA/OR/WA anchovy, mackerel, sardine purse seine” fishery. These species are managed under the Coastal Pelagic Species FMP developed by the Pacific Fishery Management Council and can be harvested along the entire coast.

NMFS proposes to rename the Category III “WA/OR salmon net pens” fishery as the “WA salmon net pen” fishery. There are no commercial non-tribal salmon net pens in Oregon.

NMFS proposes to rename (by revising, separating, and combining) the Category III “WA/OR sea urchin, other clam, octopus, oyster, sea cucumber, scallop, ghost shrimp, dive, hand/mechanical collection” and “CA sea urchin” fisheries to become the “WA/OR bait shrimp, clam hand, dive or mechanical collection” and “OR/CA sea urchin, sea cucumber dive, hand/mechanical collection” fisheries. Some of the target species listed in the “WA/OR sea urchin, other clam, octopus, oyster, sea cucumber, scallop, ghost shrimp, dive, hand/mechanical collection” have changed, have been prohibited, or are no longer active so the new name reflects target species in the WA/OR fishery. NMFS is proposing to combine the OR and CA components of the sea urchin and sea cucumber dive, hand/mechanical collections because these fisheries are functionally equivalent.

NMFS proposes to rename the Category III “WA shellfish aquaculture” fishery as the “WA/OR shellfish aquaculture” fishery. There are a number of shellfish being raised in aquaculture facilities in Oregon and the fisheries are functionally equivalent. There are 23 companies engaged in shellfish aquaculture in Washington and Oregon.

Number of Vessels/Persons

NMFS proposes to update the estimated number of vessels/persons in the Pacific Ocean (Table 1) as follows. Fisheries are labeled with their name on the proposed 2016 LOF:

Category | Fishery | Number of vessels/persons (Final 2015 LOF) | Number of vessels/persons (Proposed 2016 LOF)
I | HI deep-set longline | 128 | 135
I | CA thresher shark/swordfish drift gillnet (≥14 in mesh) | 19 | 18
II | CA spot prawn trap | 28 | 25
II | HI shallow-set longline | 18 | 15
II | American Samoa longline | 25 | 22
II | HI shortline | 6 | 9
III | CA set gillnet (mesh size <3.5 in) | 304 | 296
III | HI inshore gillnet | 42 | 36
III | WA/OR Lower Columbia River salmon seine | 235 | 10
III | HI lift net | 21 | 17
III | HI throw net, cast net | 20 | 23
III | HI seine net | 21 | 24
III | American Samoa tuna troll | 7 | 13
III | HI troll | 1,755 | 2,117
III | HI rod and reel | 221 | 322
III | HI kaka line | 24 | 15
III | HI vertical line | 6 | 3
III | CA halibut bottom trawl | 53 | 47
III | CA/OR coonstripe shrimp pot | 10 | 36
III | CA rock crab pot | 150 | 124
III | CA spiny lobster | 198 | 194
III | HI crab trap | 7 | 5
III | HI fish trap | 5 | 9
III | HI shrimp trap | 6 | 10
III | HI Kona crab loop net | 35 | 33
III | American Samoa bottomfish handline | 14 | 17
III | HI bottomfish handline | 578 | 496
III | HI inshore handline | 376 | 357
III | HI pelagic handline | 484 | 534
III | CA swordfish harpoon | 30 | 6
III | HI bullpen trap | <3 | 3
III | HI handpick | 58 | 46
III | HI lobster diving | 23 | 19
III | HI spearfishing | 159 | 163

List of Species and/or Stocks Incidentally Killed or Injured in the Pacific Ocean

NMFS proposes to add the southwest Alaska stock of northern sea otters to the list of species and/or stocks killed or injured in the Category II Alaska Peninsula/Aleutian Islands salmon set gillnet fishery. In 2014 a sea otter pup was documented injured by this fishery. The animal was rescued and rehabbed. This is the first reported take of northern sea otters in this fishery.

NMFS proposes to add the U.S. stock of California sea lions, unknown stock of harbor porpoise, unknown stock of harbor seals, California breeding stock of northern elephant seals, unknown stock of Steller sea lions to the species and/or stocks incidentally killed or injured by the Category III CA halibut bottom trawl fishery.

NMFS proposes to add the Northwestern Hawaiian Islands stock of false killer whales to the list of species and/or stocks killed or injured in the Category I Hawaii deep-set longline fishery. The Draft 2014 SAR indicates an average annual mortality and serious injury level of 0.4 per year from 2008-2012, which is 15.4 percent of the PBR of 2.6 (Carretta et al., 2015).

NMFS proposes to remove the Palmyra Atoll stock of false killer whales from the list of species and/or stocks killed or injured in the Category I Hawaii deep-set longline fishery. The mortality and serious injury estimate in the fishery for 2008-2012 is zero (McCracken, 2014).

NMFS proposes to add notation “¹” to indicate that the Main Hawaiian Islands (MHI) insular stock of false killer whales, along with the HI pelagic stock of false killer whales, is also driving the Hawaii deep-set longline fishery's Category I classification. The tier analysis is as follows: Tier 1: Data from the Draft 2014 SAR (2008-2012) indicate that total fishery-related mortality and serious injury of this stock is 300 percent of PBR (0.9/0.3) and because this exceeds 10 percent of the stock's PBR, we proceed to Tier 2. Tier 2: The Hawaii deep-set longline fishery's five-year average mortality and serious injury of this stock from 2008-2012 is 300 percent of the stock's PBR (0.9/0.3) (Carretta et al., 2015). This exceeds 50 percent of the stock's PBR level, and a Category I classification is warranted. We note that the False Killer Whale Take Reduction Plan (77 FR 71260, November 29, 2012) was not in effect during the time period for which bycatch is estimated and reported here (2008-2012). Based on preliminary bycatch estimates for 2013, observer data for 2014, and a revision to the stock boundary that will be included in the draft 2015 SAR that reduces the spatial overlap between the stock and the fishery, we anticipate future impacts to the stock as discussed in the recent MMPA 101(a)(5)(E) permit (79 FR 62105, October 16, 2014) and supporting Negligible Impact Determination.

NMFS proposes to add the Gulf of Alaska, BSAI transient stock of killer whales to the list of species and/or stocks killed or injured in the proposed Category II Alaska BSAI Pacific cod longline fishery. A killer whale was injured by this fishery in 2012 (Helker et. al., 2015). NMFS proposes to add notation “¹” to indicate that this stock is driving the fishery's classification (see tier analysis in Classification of Fisheries section above).

NMFS proposes to remove notation “¹” from the Central North Pacific stock of humpback whales under the proposed Category III fisheries: Alaska Cook Inlet salmon purse seine and Alaska Kodiak salmon purse seine. No mortalities or serious injuries of this stock by these fisheries have been documented during the most recent five years of available information.

Commercial Fisheries in the Atlantic Ocean, Gulf of Mexico, and Caribbean

Fishery Name and Organizational Changes and Clarification

NMFS proposes to rename and change the geographic scope of the Category III “U.S. Mid-Atlantic offshore surf clam/quahog dredge” fishery. This fishery is proposed to be the “New England and Mid-Atlantic offshore surf clam/quahog dredge” fishery. The proposed fishery definition will include all offshore quahog and surf clam dredges operating from the Canada-Maine border through Cape Hatteras, to better reflect the full distribution of this fishery as detailed in the Surf Clam and Ocean Quahog FMP developed by the Mid-Atlantic Fisheries Management Council. This updated definition will also include quahog non-hydraulic dredges targeting mahogany quahog in Maine state waters, which are managed by the state of Maine. Based on similarity to the current Mid-Atlantic offshore surf clam/quahog dredge fishery and other Category III shellfish dredge fisheries (Gulf of Maine, U.S. Mid-Atlantic sea scallop dredge and Gulf of Maine mussel dredge), we propose to maintain the Category III designation with this geographic expansion and name change.

Number of Vessels/Persons

NMFS updates the estimated number of vessels/persons in the Atlantic Ocean, Gulf of Mexico, and Caribbean (Table 2) as follows:

Category | Fishery | Number of vessels/persons (Final 2015 LOF) | Number of vessels/persons (Proposed 2016 LOF)
I | Mid-Atlantic gillnet | 5,509 | 4,063
I | Northeast sink gillnet | 4,375 | 4,332
I | Northeast/Mid-Atlantic American lobster trap/pot | 11,693 | 10,163
II | Chesapeake Bay inshore gillnet | 1,126 | 272
II | Northeast anchored float gillnet | 421 | 995
II | Northeast drift gillnet | 311 | 1,567
II | Mid-Atlantic mid-water trawl (including pair trawl) | 322 | 507
II | Mid-Atlantic bottom trawl | 631 | 994
II | Northeast mid-water trawl | 1,103 | 1,087
II | Northeast bottom trawl | 2,987 | 3,132
II | Atlantic mixed-species trap pot | 3,467 | 3,284
II | Mid-Atlantic menhaden purse seine | 5 | 19
II | Mid-Atlantic haul/beach seine | 565 | 243
II | Virginia pound net | 67 | 47

List of Species and/or Stocks Incidentally Killed or Injured in the Atlantic Ocean, Gulf of Mexico, and Caribbean

NMFS proposes to add the Gulf of Maine/Bay of Fundy stock of harbor porpoise and the Gulf of Mexico stock of pygmy sperm whale to the list of marine mammal species and/or stocks incidentally killed or injured in the Category I Atlantic Ocean, Caribbean, Gulf of Mexico large pelagics longline fishery. One harbor porpoise was observed killed by this fishery in 2013 in the Mid-Atlantic Bight (Garrison and Stokes, 2014). This is the first recorded harbor porpoise caught in this fishery; therefore, average annual mortality and injury estimates have not yet been calculated. One pygmy sperm whale was observed injured by this fishery in 2013 (Garrison and Stokes, 2014).

NMFS proposes to add the Western North Atlantic stock of Risso's dolphin to the list of marine mammal species and/or stocks incidentally killed or injured in the Category II Northeast bottom trawl fishery. One Risso's dolphin from the Western North Atlantic stock was observed injured by this fishery in 2010 (Waring, et. al., 2015).

NMFS proposes to add the central Georgia estuarine system stock of bottlenose dolphin to the list of marine mammal species and/or stocks incidentally killed or injured in the Category II Atlantic blue crab trap/pot fishery. One bottlenose dolphin from the central Georgia estuarine system stock was observed injured by this fishery in 2011 (Waring, et. al., 2015).

NMFS proposes to remove the Western North Atlantic stocks of Risso's dolphin and white-sided dolphin from the list of marine mammal species and/or stocks incidentally killed or injured in the Category I Mid-Atlantic gillnet fishery. The last documented takes of these species were in 2007. There have not been any observed takes of these species in this fishery in the most recent five-year period analyzed for this LOF. During 2008-2012, the estimated observer coverage was 3, 3, 4, 2, and 2 percent respectively.

NMFS proposes to remove the Western North Atlantic stocks of common dolphin, long-finned pilot whale, and short-finned pilot whale from the list of marine mammal species and/or stocks incidentally killed or injured in the Category II Mid-Atlantic mid-water trawl fishery. There have not been any observed takes of these species in this fishery in the most recent five-year period analyzed for this LOF. During 2008-2012, the estimated observer coverage (measured in trips) was 4, 13.2, 25, 41, and 21 percent respectively. Observer coverage for 2010-2012 includes both observers and at-sea monitors.

NMFS proposes to remove the Western North Atlantic stocks of white-sided dolphin, long-finned pilot whale, and short-finned pilot whale from the list of marine mammal species and/or stocks incidentally killed or injured in the Category II Mid-Atlantic bottom trawl fishery. There have not been any observed takes of these species in this fishery in the most recent five-year period analyzed for this LOF. During the years 2008-2012, estimated observer coverage (measured in trips) for each year was as follows: Targeting mixed groundfish species: 3, 5, 5, 7, and 5 percent respectively; targeting Loligo squid between: 2, 7, 8, 11, and 4 percent respectively; and domestic trips targeting Atlantic mackerel fishery: 0, 8, 11, 8, and 20 percent respectively.

NMFS proposes to remove the Western North Atlantic stocks of white-sided dolphin and short-finned pilot whale from the list of marine mammal species and/or stocks incidentally killed or injured in the Category II Northeast mid-water trawl fishery. There have not been any observed takes of these species in this fishery in the most recent five-year period analyzed for this LOF. During 2008-2012, the estimated observer coverage (trips) was 19.92, 42, 53, 41, and 45 percent respectively.

NMFS proposes to remove the Western North Atlantic stock of short-finned pilot whale from the list of marine mammal species and/or stock incidentally killed or injured in the Category II Northeast bottom trawl fishery. There have not been any observed takes of this species in this fishery in the most recent five-year period analyzed for this LOF. During 2008-2012, the estimated observer coverage (measured in trips) was 8, 9, 16, 26, and 17 percent respectively. Observer coverage for 2010-2012 includes both observers and at-sea monitors.

Commercial Fisheries on the High Seas

Removal of Fisheries

NMFS proposes to remove the following Category II high seas fisheries from the List of Fisheries: (1) Western Pacific Pelagic Trawl, (2) Pacific Highly Migratory Species Liners, not elsewhere included (NEI), (3) South Pacific Albacore Troll Liners (NEI), and (4) Western Pacific Pelagic Liners (NEI). These fisheries categories are no longer authorized under the HSFCA.

Number of Vessels/Persons

NMFS proposes to update the estimated number of HSFCA permits in multiple high seas fisheries for multiple gear types (Table 3). The proposed updated numbers of HSFCA permits reflect the current number of permits in the NMFS National Permit System database, with the exception of the Western Pacific Pelagic HI deep-set and shallow-set component longline fisheries. The HSFCA permit does not distinguish between deep and shallow-set; therefore, the estimated number of participants from Table 1 for only these fisheries is used. NMFS proposes to update the estimated number of HSFCA permits as follows:

Category | Fishery | Number of HSFCA permits (Final 2015 LOF) | Number of HSFCA permits (Proposed 2016 LOF)
I | Atlantic Highly Migratory Species Longline | 83 | 86
I | Western Pacific Pelagic (HI Deep-set component) | 128 | 135
I | Pacific Highly Migratory Species Drift Gillnet | 4 | 5
II | South Pacific Tuna Fisheries Purse Seine | 38 | 39
II | South Pacific Albacore Troll Longline | 13 | 15
II | Western Pacific Pelagic (HI Shallow-set component) | 18 | 15
II | Atlantic Highly Migratory Species Handline/Pole and Line | 2 | 3
II | Pacific Highly Migratory Species Handline/Pole and Line | 41 | 50
II | South Pacific Albacore Troll Handline/Pole and Line | 8 | 9
II | Western Pacific Pelagic Handline/Pole and Line | 3 | 5
II | South Pacific Albacore Troll | 35 | 38
II | South Pacific Tuna Fisheries Troll | 3 | 5
II | Western Pacific Pelagic Troll | 19 | 21
III | Pacific Highly Migratory Species Longline | 100 | 126
III | Pacific Highly Migratory Species Troll | 253 | 243

List of Fisheries

The following tables set forth the list of U.S. commercial fisheries according to their classification under section 118 of the MMPA. Table 1 lists commercial fisheries in the Pacific Ocean (including Alaska); Table 2 lists commercial fisheries in the Atlantic Ocean, Gulf of Mexico, and Caribbean; Table 3 lists commercial fisheries on the high seas; and Table 4 lists fisheries affected by TRPs or TRTs.

In Tables 1 and 2, the estimated number of vessels or persons participating in fisheries operating within U.S. waters is expressed in terms of the number of active participants in the fishery, when possible. If this information is not available, the estimated number of vessels or persons licensed for a particular fishery is provided. If no recent information is available on the number of participants, vessels, or persons licensed in a fishery, then the number from the most recent LOF is used for the estimated number of vessels or persons in the fishery. NMFS acknowledges that, in some cases, these estimates may be inflations of actual effort. For example, the State of Hawaii does not issue fishery-specific licenses, and the number of participants reported in the LOF represents the number of commercial marine license holders who reported using a particular fishing gear type/method at least once in a given year, without considering how many times the gear was used. For these fisheries, effort by a single participant is counted the same whether the fisher used the gear only once or every day. In the Mid-Atlantic and New England fisheries, the numbers represent the potential effort for each fishery, given the multiple gear types for which several state permits may allow. Changes made to Mid-Atlantic and New England fishery participants will not affect observer coverage or bycatch estimates, as observer coverage and bycatch estimates are based on vessel trip reports and landings data. Tables 1 and 2 serve to provide a description of the fishery's potential effort (state and Federal). If NMFS is able to extract more accurate information on the gear types used by state permit holders in the future, the numbers will be updated to reflect this change. For additional information on fishing effort in fisheries found on Table 1 or 2, contact the relevant regional office (contact information included above in SUPPLEMENTARY INFORMATION).

For high seas fisheries, Table 3 lists the number of valid HSFCA permits currently held. Although this likely overestimates the number of active participants in many of these fisheries, the number of valid HSFCA permits is the most reliable data on the potential effort in high seas fisheries at this time. As noted previously in this rule, the number of HSFCA permits listed in Table 3 for the high seas components of fisheries that also operate within U.S. waters does not necessarily represent additional effort that is not accounted for in Tables 1 and 2. Many vessels holding HSFCA permits also fish within U.S. waters and are included in the number of vessels and participants operating within those fisheries in Tables 1 and 2.

Tables 1, 2, and 3 also list the marine mammal species and/or stocks incidentally killed or injured (seriously or non-seriously) in each fishery based on SARs, injury determination reports, bycatch estimation reports, observer data, logbook data, stranding data, disentanglement network data, fisher self-reports (i.e. MMPA reports), and anecdotal reports. The best available scientific information included in these reports is based on data through 2012. This list includes all species and/or stocks known to be killed or injured in a given fishery but also includes species and/or stocks for which there are anecdotal records of a mortality or injury. Additionally, species identified by logbook entries, stranding data, or fishermen self-reports (i.e., MMPA reports) may not be verified. In Tables 1 and 2, NMFS has designated those species/stocks driving a fishery's classification (i.e., the fishery is classified based on mortalities and serious injuries of a marine mammal stock that are greater than or equal to 50 percent [Category I], or greater than 1 percent and less than 50 percent [Category II], of a stock's PBR) by a “¹” after the stock's name.

In Tables 1 and 2, there are several fisheries classified as Category II that have no recent documented mortalities or serious injuries of marine mammals, or fisheries that did not result in a mortality or serious injury rate greater than 1 percent of a stock's PBR level based on known interactions. NMFS has classified these fisheries by analogy to other Category I or II fisheries that use similar fishing techniques or gear that are known to cause mortality or serious injury of marine mammals, as discussed in the final LOF for 1996 (60 FR 67063, December 28, 1995), and according to factors listed in the definition of a “Category II fishery” in 50 CFR 229.2 (i.e., fishing techniques, gear types, methods used to deter marine mammals, target species, seasons and areas fished, qualitative data from logbooks or fisher reports, stranding data, and the species and distribution of marine mammals in the area). NMFS has designated those fisheries listed by analogy in Tables 1 and 2 by a “²” after the fishery's name.

There are several fisheries in Tables 1, 2, and 3 in which a portion of the fishing vessels cross the exclusive economic zone (EEZ) boundary and therefore operate both within U.S. waters and on the high seas. These fisheries, though listed separately between Table 1 or 2 and Table 3, are considered the same fisheries on either side of the EEZ boundary. NMFS has designated those fisheries in each table by a “*” after the fishery's name.

Table 1—List of Fisheries—Commercial Fisheries in the Pacific Ocean
Fishery description | Estimated number of vessels/ persons | Marine mammal species and/or stocks incidentally killed or injured
CATEGORY I
LONGLINE/SET LINE FISHERIES:
HI deep-set longline * ‸ | 135 | Bottlenose dolphin, HI Pelagic.
|  | False killer whale, MHI Insular.¹
|  | False killer whale, HI Pelagic.¹
|  | False killer whale, NWHI.
|  | Pantropical spotted dolphin, HI.
|  | Risso's dolphin, HI.
|  | Short-finned pilot whale, HI.
|  | Sperm whale, HI.
|  | Striped dolphin, HI.
GILLNET FISHERIES:
CA thresher shark/swordfish drift gillnet (≥14 in mesh) * | 18 | Bottlenose dolphin, CA/OR/WA offshore.
|  | California sea lion, Humpback whale, CA/OR/WA.
|  | Long-beaked common dolphin, CA.
|  | Minke whale, CA/OR/WA.
|  | Northern elephant seal, CA breeding.
|  | Northern right-whale dolphin, CA/OR/WA.
|  | Pacific white-sided dolphin, CA/OR/WA.
|  | Risso's dolphin, CA/OR/WA.
|  | Short-beaked common dolphin, CA/OR/WA.
|  | Sperm Whale, CA/OR/WA.¹
CATEGORY II
GILLNET FISHERIES:
CA halibut/white seabass and other species set gillnet (>3.5 in mesh) | 50 | California sea lion, U.S.
|  | Harbor seal, CA.
|  | Humpback whale, CA/OR/WA.¹
|  | Long-beaked common dolphin, CA.
|  | Northern elephant seal, CA breeding.
|  | Sea otter, CA.
|  | Short-beaked common dolphin, CA/OR/WA.
CA yellowtail, barracuda, and white seabass drift gillnet (mesh size ≥3.5 in and <14 in) ² | 30 | California sea lion, U.S. Long-beaked common dolphin, CA.
|  | Short-beaked common dolphin, CA/OR/WA.
AK Bristol Bay salmon drift gillnet ² | 1,862 | Beluga whale, Bristol Bay.
|  | Gray whale, Eastern North Pacific.
|  | Harbor seal, Bering Sea.
|  | Northern fur seal, Eastern Pacific.
|  | Pacific white-sided dolphin, North Pacific.
|  | Spotted seal, AK.
|  | Steller sea lion, Western U.S.
AK Bristol Bay salmon set gillnet ² | 979 | Beluga whale, Bristol Bay.
|  | Gray whale, Eastern North Pacific.
|  | Harbor seal, Bering Sea.
|  | Northern fur seal, Eastern Pacific.
|  | Spotted seal, AK.
AK Kodiak salmon set gillnet | 188 | Harbor porpoise, GOA.¹
|  | Harbor seal, GOA.
|  | Sea otter, Southwest AK.
|  | Steller sea lion, Western U.S.
AK Cook Inlet salmon set gillnet | 736 | Beluga whale, Cook Inlet.
|  | Dall's porpoise, AK.
|  | Harbor porpoise, GOA.
|  | Harbor seal, GOA.
|  | Humpback whale, Central North Pacific.¹
|  | Sea otter, South Central AK.
|  | Steller sea lion, Western U.S.
AK Cook Inlet salmon drift gillnet | 569 | Beluga whale, Cook Inlet.
|  | Dall's porpoise, AK.
|  | Harbor porpoise, GOA.¹
|  | Harbor seal, GOA.
|  | Steller sea lion, Western U.S.
AK Peninsula/Aleutian Islands salmon drift gillnet ² | 162 | Dall's porpoise, AK.
|  | Harbor porpoise, GOA.
|  | Harbor seal, GOA.
|  | Northern fur seal, Eastern Pacific.
AK Peninsula/Aleutian Islands salmon set gillnet ² | 113 | Harbor porpoise, Bering Sea.
|  | Northern sea otter, Southwest AK.
|  | Steller sea lion, Western U.S.
AK Prince William Sound salmon drift gillnet | 537 | Dall's porpoise, AK Harbor porpoise, GOA.¹ Harbor seal, GOA. Northern fur seal, Eastern Pacific. Pacific white-sided dolphin, North Pacific. Sea otter, South Central AK. Steller sea lion, Western U.S.¹
AK Southeast salmon drift gillnet | 474 | Dall's porpoise, AK.
|  | Harbor porpoise, Southeast AK.
|  | Harbor seal, Southeast AK.
|  | Humpback whale, Central North Pacific.¹
|  | Pacific white-sided dolphin, North Pacific.
|  | Steller sea lion, Eastern U.S.
AK Yakutat salmon set gillnet ² | 168 | Gray whale, Eastern North Pacific.
|  | Harbor Porpoise, Southeastern AK.
|  | Harbor seal, Southeast AK.
|  | Humpback whale, Central North Pacific (Southeast AK).
WA Puget Sound Region salmon drift gillnet (includes all inland waters south of US-Canada border and eastward of the Bonilla-Tatoosh line-Treaty Indian fishing is excluded) | 210 | Dall's porpoise, CA/OR/WA. Harbor porpoise, inland WA.¹ Harbor seal, WA inland.
TRAWL FISHERIES:
AK Bering Sea, Aleutian Islands flatfish trawl | 32 | Bearded seal, AK.
|  | Gray whale, Eastern North Pacific.
|  | Harbor porpoise, Bering Sea.
|  | Harbor seal, Bering Sea.
|  | Humpback whale, Western North Pacific.¹
|  | Killer whale, AK resident.¹
|  | Killer whale, GOA, AI, BS transient.¹
|  | Northern fur seal, Eastern Pacific.
|  | Ringed seal, AK.
|  | Ribbon seal, AK.
|  | Spotted seal, AK.
|  | Steller sea lion, Western U.S.¹
|  | Walrus, AK.
AK Bering Sea, Aleutian Islands pollock trawl | 102 | Bearded Seal, AK.
|  | Dall's porpoise, AK.
|  | Harbor seal, AK.
|  | Humpback whale, Central North Pacific.
|  | Humpback whale, Western North Pacific.
|  | Northern fur seal, Eastern Pacific.
|  | Ribbon seal, AK.
|  | Ringed seal, AK.
|  | Spotted seal, AK.
|  | Steller sea lion, Western U.S.¹
AK Bering Sea, Aleutian Islands rockfish trawl | 17 | Killer whale, ENP AK resident.¹ Killer whale, GOA, AI, BS transient.¹
POT, RING NET, AND TRAP FISHERIES:
CA spot prawn pot | 25 | Gray whale, Eastern North Pacific.
|  | Humpback whale, CA/OR/WA.¹
CA Dungeness crab pot | 570 | Gray whale, Eastern North Pacific.
|  | Humpback whale, CA/OR/WA.¹
OR Dungeness crab pot | 433 | Gray whale, Eastern North Pacific.
|  | Humpback whale, CA/OR/WA.¹
WA/OR/CA sablefish pot | 309 | Humpback whale, CA/OR/WA.¹
WA coastal Dungeness crab pot | 228 | Gray whale, Eastern North Pacific.
|  | Humpback whale, CA/OR/WA.¹
LONGLINE/SET LINE FISHERIES:
AK Bering Sea, Aleutian Islands Pacific cod longline | 45 | Dall's Porpoise, AK Killer whale, GOA, BSAI transient.¹ Northern fur seal, Eastern Pacific. Ringed seal, AK.
HI shallow-set longline * | 15 | Blainville's beaked whale, HI.
|  | Bottlenose dolphin, HI Pelagic.
|  | False killer whale, HI Pelagic.¹
|  | Humpback whale, Central North Pacific.
|  | Kogia spp. whale (Pygmy or dwarf sperm whale), HI.
|  | Risso's dolphin, HI.
|  | Short-finned pilot whale, HI.
|  | Striped dolphin, HI.
American Samoa longline.² | 22 | Bottlenose dolphin, unknown.
|  | Cuvier's beaked whale, unknown.
|  | False killer whale, American Samoa.
|  | Rough-toothed dolphin, American Samoa.
|  | Short-finned pilot whale, unknown.
HI shortline ² | 9 | None documented.
CATEGORY III
GILLNET FISHERIES:.
AK Kuskokwim, Yukon, Norton Sound, Kotzebue salmon gillnet | 1,778 | Harbor porpoise, Bering Sea.
AK miscellaneous finfish set gillnet | 54 | Steller sea lion, Western U.S.
AK Prince William Sound salmon set gillnet | 29 | Harbor seal, GOA. Sea otter, South Central AK Steller sea lion, Western U.S.
AK roe herring and food/bait herring gillnet | 920 | None documented.
CA set gillnet (mesh size <3.5 in) | 296 | None documented.
HI inshore gillnet | 36 | Bottlenose dolphin, HI.
|  | Spinner dolphin, HI.
WA Grays Harbor salmon drift gillnet (excluding treaty Tribal fishing) | 24 | Harbor seal, OR/WA coast.
WA/OR Mainstem Columbia River eulchon gillnet | 15 | None documented.
WA/OR lower Columbia River (includes tributaries) drift gillnet | 110 | California sea lion, U.S. Harbor seal, OR/WA coast.
WA Willapa Bay drift gillnet | 82 | Harbor seal, OR/WA coast.
|  | Northern elephant seal, CA breeding.
MISCELLANEOUS NET FISHERIES:.
AK Cook Inlet salmon purse seine | 83 | Humpback whale, Central North Pacific.
AK Kodiak salmon purse seine | 376 | Humpback whale, Central North Pacific.
AK Southeast salmon purse seine | 315 | None documented in the most recent five years of data.
AK Metlakatla salmon purse seine | 10 | None documented.
AK miscellaneous finfish beach seine | 2 | None documented.
AK miscellaneous finfish purse seine | 2 | None documented.
AK octopus/squid purse seine | 0 | None documented.
AK roe herring and food/bait herring beach seine | 10 | None documented.
AK roe herring and food/bait herring purse seine | 356 | None documented.
AK salmon beach seine | 31 | None documented.
AK salmon purse seine (excluding salmon purse seine fisheries listed elsewhere) | 936 | Harbor seal, GOA Harbor seal, Prince William Sound.
CA/OR/WA anchovy, mackerel, sardine seine | 107 | California sea lion, U.S. Harbor seal, CA.
CA squid purse seine | 80 | Long-beaked common dolphin, CA.
|  | Short-beaked common dolphin, CA/OR/WA.
CA tuna purse seine * | 10 | None documented.
WA/OR Lower Columbia River salmon seine | 10 | None documented.
WA/OR herring, smelt, squid purse seine or lampara | 130 | None documented.
WA salmon purse seine | 75 | None documented.
WA salmon reef net | 11 | None documented.
HI lift net | 17 | None documented.
HI inshore purse seine | <3 | None documented.
HI throw net, cast net | 23 | None documented.
HI seine net | 24 | None documented..
DIP NET FISHERIES:.
CA squid dip net | 115 | None documented..
MARINE AQUACULTURE FISHERIES:.
CA marine shellfish aquaculture | unknown | None documented.
CA salmon enhancement rearing pen | >1 | None documented.
CA white seabass enhancement net pens | 13 | California sea lion, U.S.
HI offshore pen culture | 2 | None documented.
WA salmon net pens | 14 | California sea lion, U.S.
|  | Harbor seal, WA inland waters.
WA/OR shellfish aquaculture | 23 | None documented..
TROLL FISHERIES:.
WA/OR/CA albacore surface hook and line/troll | 705 | None documented.
CA halibut hook and line/handline | unknown | None documented.
CA white seabass hook and line/handline | unknown | None documented.
AK salmon troll | 1,908 | Steller sea lion, Eastern U.S.
|  | Steller sea lion, Western U.S.
American Samoa tuna troll | 13 | None documented.
CA/OR/WA salmon troll | 4,300 | None documented.
HI troll | 2,117 | Pantropical spotted dolphin, HI.
HI rod and reel | 322 | None documented.
Commonwealth of the Northern Mariana Islands tuna troll | 40 | None documented.
Guam tuna troll | 432 | None documented..
LONGLINE/SET LINE FISHERIES:.
AK Bering Sea, Aleutian Islands rockfish longline | 3 | None documented.
AK Bering Sea, Aleutian Islands Greenland turbot longline | 4 | Killer whale, AK resident.
AK Bering Sea, Aleutian Islands sablefish longline | 22 | None documented.
AK Gulf of Alaska halibut longline | 855 | None documented.
AK Gulf of Alaska Pacific cod longline | 92 | Steller sea lion, Western U.S.
AK Gulf of Alaska rockfish longline | 25 | None documented.
AK Gulf of Alaska sablefish longline | 295 | Sperm whale, North Pacific.
AK halibut longline/set line (state and Federal waters) | 2,197 | None documented in the most recent five years of data.
AK octopus/squid longline | 3 | None documented.
AK state-managed waters longline/setline (including sablefish, rockfish, lingcod, and miscellaneous finfish) | 464 | None documented.
WA/OR/CA groundfish, bottomfish longline/set line | 367 | Bottlenose dolphin, CA/OR/WA offshore.
WA/OR Pacific halibut longline | 350 | None documented.
CA pelagic longline | 1 | None documented in the most recent five years of data.
HI kaka line | 15 | None documented.
HI vertical line | 3 | None documented..
TRAWL FISHERIES:.
AK Bering Sea, Aleutian Islands Atka mackerel trawl | 13 | Ribbon seal, AK Steller sea lion, Western U.S.
AK Bering Sea, Aleutian Islands Pacific cod trawl | 72 | Ringed seal, AK Steller sea lion, Western U.S.
AK Gulf of Alaska flatfish trawl | 36 | Northern elephant seal, North Pacific.
AK Gulf of Alaska Pacific cod trawl | 55 | Steller sea lion, Western U.S.
AK Gulf of Alaska pollock trawl | 67 | Dall's porpoise, AK.
|  | Fin whale, Northeast Pacific.
|  | Northern elephant seal, North Pacific.
|  | Steller sea lion, Western U.S.
AK Gulf of Alaska rockfish trawl | 43 | None documented.
AK food/bait herring trawl | 4 | None documented.
AK miscellaneous finfish otter/beam trawl | 282 | None documented.
AK shrimp otter trawl and beam trawl (statewide and Cook Inlet) | 38 | None documented.
AK state-managed waters of Cook Inlet, Kachemak Bay, Prince William Sound, Southeast AK groundfish trawl | 2 | None documented.
CA halibut bottom trawl | 47 | California sea lion, U.S.
|  | Harbor porpoise, unknown.
|  | Harbor seal, unknown.
|  | Northern elephant seal, CA breeding.
|  | Steller sea lion, unknown.
CA sea cucumber trawl | 16 | None documented.
WA/OR/CA shrimp trawl | 300 | None documented.
WA/OR/CA groundfish trawl | 160-180 | California sea lion, U.S.
|  | Dall's porpoise, CA/OR/WA.
|  | Harbor seal, OR/WA coast.
|  | Northern fur seal, Eastern Pacific.
|  | Pacific white-sided dolphin, CA/OR/WA Steller sea lion, Eastern U.S..
POT, RING NET, AND TRAP FISHERIES:.
AK statewide miscellaneous finfish pot | 4 | None documented.
AK Aleutian Islands sablefish pot | 4 | None documented.
AK Bering Sea, Aleutian Islands Pacific cod pot | 59 | None documented.
AK Bering Sea, Aleutian Islands crab pot | 540 | Gray whale, Eastern North Pacific.
AK Bering Sea sablefish pot | 2 | None documented.
AK Gulf of Alaska crab pot | 381 | None documented.
AK Gulf of Alaska Pacific cod pot | 128 | Harbor seal, GOA.
AK Southeast Alaska crab pot | 41 | Humpback whale, Central North Pacific (Southeast AK).
AK Southeast Alaska shrimp pot | 269 | Humpback whale, Central North Pacific (Southeast AK).
AK shrimp pot, except Southeast | 236 | None documented.
AK octopus/squid pot | 26 | None documented.
AK snail pot | 1 | None documented.
CA/OR coonstripe shrimp pot | 36 | Gray whale, Eastern North Pacific.
|  | Harbor seal, CA.
CA rock crab pot | 124 | Gray whale, Eastern North Pacific.
|  | Harbor seal, CA.
CA spiny lobster | 194 | Gray whale, Eastern North Pacific.
WA/OR/CA hagfish pot | 54 | None documented.
WA/OR shrimp pot/trap | 254 | None documented.
WA Puget Sound Dungeness crab pot/trap | 249 | None documented.
HI crab trap | 5 | Humpback whale, Central North Pacific.
HI fish trap | 9 | None documented.
HI lobster trap | <3 | None documented in recent years.
HI shrimp trap | 10 | None documented.
HI crab net | 4 | None documented.
HI Kona crab loop net | 33 | None documented..
HOOK-AND-LINE, HANDLINE, AND JIG FISHERIES:.
AK miscellaneous finfish handline/hand troll and mechanical jig | 456 | None documented.
AK North Pacific halibut handline/hand troll and mechanical jig | 180 | None documented.
AK octopus/squid handline | 7 | None documented.
American Samoa bottomfish | 17 | None documented.
Commonwealth of the Northern Mariana Islands bottomfish | 28 | None documented.
Guam bottomfish | >300 | None documented.
HI aku boat, pole, and line | <3 | None documented.
HI bottomfish handline | 578 | None documented in recent years.
HI inshore handline | 357 | None documented.
HI pelagic handline | 534 | None documented.
WA groundfish, bottomfish jig | 679 | None documented.
Western Pacific squid jig | 0 | None documented..
HARPOON FISHERIES:.
CA swordfish harpoon | 6 | None documented..
POUND NET/WEIR FISHERIES:.
AK herring spawn on kelp pound net | 409 | None documented.
AK Southeast herring roe/food/bait pound net | 2 | None documented.
HI bullpen trap | 3 | None documented..
BAIT PENS:.
WA/OR/CA bait pens | 13 | California sea lion, U.S..
DREDGE FISHERIES:.
Alaska scallop dredge | 108 (5 AK) | None documented..
DIVE, HAND/MECHANICAL COLLECTION FISHERIES:.
AK abalone | 0 | None documented.
AK clam | 130 | None documented.
AK Dungeness crab | 2 | None documented.
AK herring spawn on kelp | 339 | None documented.
AK urchin and other fish/shellfish | 398 | None documented.
HI black coral diving | <3 | None documented.
HI fish pond | 5 | None documented.
HI handpick | 46 | None documented.
HI lobster diving | 19 | None documented.
HI spearfishing | 163 | None documented.
WA/CA kelp | 4 | None documented.
WA/OR bait shrimp, clam hand, dive, or mechanical collection | 201 | None documented.
OR/CA sea urchin, sea cucumber hand, dive, or mechanical collection | 10 | None documented.
COMMERCIAL PASSENGER FISHING VESSEL (CHARTER BOAT) FISHERIES:
AK/WA/OR/CA commercial passenger fishing vessel | >7,000 (2,702 AK) | Killer whale, unknown Steller sea lion, Eastern U.S. Steller sea lion, Western U.S.
LIVE FINFISH/SHELLFISH FISHERIES:
CA nearshore finfish live trap/hook-and-line | 93 | None documented.
HI aquarium collecting | 90 | None documented.
List of Abbreviations and Symbols Used in Table 1: AI—Aleutian Islands; AK—Alaska; BS—Bering Sea; CA—California; ENP—Eastern North Pacific; GOA—Gulf of Alaska; HI—Hawaii; MHI—Main Hawaiian Islands; OR—Oregon; WA—Washington; ¹ Fishery classified based on mortalities and serious injuries of this stock, which are greater than or equal to 50 percent (Category I) or greater than 1 percent and less than 50 percent (Category II) of the stock's PBR; ² Fishery classified by analogy; * Fishery has an associated high seas component listed in Table 3; the list of marine mammal species and/or stocks killed or injured in this fishery is identical to the list of species and/or stocks killed or injured in high seas component of the fishery, minus species and/or stocks that have geographic ranges exclusively on the high seas. The species and/or stocks are found, and the fishery remains the same, on both sides of the EEZ boundary. Therefore, the EEZ components of these fisheries pose the same risk to marine mammals as the components operating on the high seas.

Table 2—List of Fisheries—Commercial Fisheries in the Atlantic Ocean, Gulf of Mexico, and Caribbean
Fishery description | Estimated # of vessels/ persons | Marine mammal species and/or stocks incidentally killed or injured
CATEGORY I
GILLNET FISHERIES:
Mid-Atlantic gillnet | 4,063 | Bottlenose dolphin, Northern Migratory coastal.¹
|  | Bottlenose dolphin, Southern Migratory coastal.¹
|  | Bottlenose dolphin, Northern NC estuarine system.¹
|  | Bottlenose dolphin, Southern NC estuarine system.¹
|  | Bottlenose dolphin, WNA offshore.
|  | Common dolphin, WNA.
|  | Gray seal, WNA.
|  | Harbor porpoise, GME/BF.
|  | Harbor seal, WNA.
|  | Harp seal, WNA.
|  | Humpback whale, Gulf of Maine.
|  | Minke whale, Canadian east coast.
|  | Risso's dolphin, WNA.
|  | White-sided dolphin, WNA.
Northeast sink gillnet | 4,332 | Bottlenose dolphin, WNA offshore.
|  | Common dolphin, WNA.
|  | Fin whale, WNA.
|  | Gray seal, WNA.
|  | Harbor porpoise, GME/BF.¹
|  | Harbor seal, WNA.
|  | Harp seal, WNA.
|  | Hooded seal, WNA.
|  | Humpback whale, Gulf of Maine.
|  | Long-finned pilot whale, WNA.
|  | Minke whale, Canadian east coast.
|  | North Atlantic right whale, WNA.
|  | Risso's dolphin, WNA.
|  | Short-finned pilot whale, WNA.
|  | White-sided dolphin, WNA.
TRAP/POT FISHERIES:
Northeast/Mid-Atlantic American lobster trap/pot | 10,163 | Harbor seal, WNA.
|  | Humpback whale, Gulf of Maine.
|  | Minke whale, Canadian east coast.
|  | North Atlantic right whale, WNA.¹
LONGLINE FISHERIES:
Atlantic Ocean, Caribbean, Gulf of Mexico large pelagics longline * | 420 | Atlantic spotted dolphin, GMX continental and oceanic.
|  | Atlantic spotted dolphin, WNA.
|  | Bottlenose dolphin, Northern GMX oceanic.
|  | Bottlenose dolphin, WNA offshore.
|  | Common dolphin, WNA.
|  | Cuvier's beaked whale, WNA.
|  | False killer whale, WNA.
|  | Gervais beaked whale, GMX.
|  | Harbor porpoise, GME, BF.
|  | Killer whale, GMX oceanic.
|  | Kogia spp. (Pygmy or dwarf sperm whale), WNA.
|  | Long-finned pilot whale, WNA.¹
|  | Mesoplodon beaked whale, WNA.
|  | Minke whale, Canadian East coast.
|  | Pantropical spotted dolphin, Northern GMX.
|  | Pantropical spotted dolphin, WNA.
|  | Pygmy sperm whale, GMX.
|  | Risso's dolphin, Northern GMX.
|  | Risso's dolphin, WNA.
|  | Short-finned pilot whale, Northern GMX.
|  | Short-finned pilot whale, WNA.¹
|  | Sperm whale, GMX oceanic.
CATEGORY II
GILLNET FISHERIES:
Chesapeake Bay inshore gillnet ² | 272 | None documented in the most recent five years of data.
Gulf of Mexico gillnet ² | 724 | Bottlenose dolphin, GMX bay, sound, and estuarine.
|  | Bottlenose dolphin, Northern GMX coastal.
|  | Bottlenose dolphin, Western GMX coastal
NC inshore gillnet | 1,323 | Bottlenose dolphin, Northern NC estuarine system.¹
|  | Bottlenose dolphin, Southern NC estuarine system.¹
Northeast anchored float gillnet ² | 995 | Harbor seal, WNA.
|  | Humpback whale, Gulf of Maine.
|  | White-sided dolphin, WNA.
Northeast drift gillnet ² | 1,567 | None documented.
Southeast Atlantic gillnet ² | 357 | Bottlenose dolphin, Central FL coastal.
|  | Bottlenose dolphin, Northern FL coastal.
|  | Bottlenose dolphin, SC/GA coastal.
|  | Bottlenose dolphin, Southern migratory coastal
Southeastern U.S. Atlantic shark gillnet | 30 | Bottlenose dolphin, unknown (Central FL, Northern FL, SC/GA coastal, or Southern migratory coastal).
|  | North Atlantic right whale, WNA.
TRAWL FISHERIES
Mid-Atlantic mid-water trawl (including pair trawl) | 507 | Risso's dolphin, WNA.
|  | White-sided dolphin, WNA.¹
Mid-Atlantic bottom trawl | 994 | Bottlenose dolphin, WNA offshore.
|  | Common dolphin, WNA.¹
|  | Gray seal, WNA.
|  | Harbor seal, WNA.
|  | Risso's dolphin, WNA.¹
Northeast mid-water trawl (including pair trawl) | 1,087 | Gray seal, WNA.
|  | Harbor seal, WNA.
|  | Long-finned pilot whale, WNA.¹
|  | Common dolphin, WNA.
Northeast bottom trawl | 3,132 | Bottlenose dolphin, WNA offshore.
|  | Common dolphin, WNA.
|  | Gray seal, WNA.
|  | Harbor porpoise, GME/BF.
|  | Harbor seal, WNA.
|  | Harp seal, WNA.
|  | Long-finned pilot whale, WNA.
|  | Minke whale, Canadian East Coast.
|  | Risso's dolphin, WNA.
|  | White-sided dolphin, WNA.¹
Southeastern U.S. Atlantic, Gulf of Mexico shrimp trawl | 4,950 | Atlantic spotted dolphin, GMX continental and oceanic.
|  | Bottlenose dolphin, Charleston estuarine system.
|  | Bottlenose dolphin, Eastern GMX coastal.¹
|  | Bottlenose dolphin, GMX bay, sound, estuarine.¹
|  | Bottlenose dolphin, GMX continental shelf.
|  | Bottlenose dolphin, Northern GMX coastal.
|  | Bottlenose dolphin, SC/GA coastal.¹
|  | Bottlenose dolphin, Southern migratory coastal.
|  | Bottlenose dolphin, Western GMX coastal.¹
|  | West Indian manatee, Florida.
TRAP/POT FISHERIES:
Southeastern U.S. Atlantic, Gulf of Mexico stone crab trap/pot ² | 1,282 | Bottlenose dolphin, Biscayne Bay estuarine.
|  | Bottlenose dolphin, Central FL coastal.
|  | Bottlenose dolphin, Eastern GMX coastal.
|  | Bottlenose dolphin, FL Bay.
|  | Bottlenose dolphin, GMX bay, sound, estuarine (FL west coast portion).
|  | Bottlenose dolphin, Indian River Lagoon estuarine system.
|  | Bottlenose dolphin, Jacksonville estuarine system.
|  | Bottlenose dolphin, Northern GMX coastal
Atlantic mixed species trap/pot ² | 3,284 | Fin whale, WNA.
|  | Humpback whale, Gulf of Maine.
Atlantic blue crab trap/pot | 8,557 | Bottlenose dolphin, Central FL coastal.¹
|  | Bottlenose dolphin, Central GA estuarine system.
|  | Bottlenose dolphin, Charleston estuarine system.¹
|  | Bottlenose dolphin, Indian River Lagoon estuarine system.¹
|  | Bottlenose dolphin, Jacksonville estuarine system.¹
|  | Bottlenose dolphin, Northern FL coastal.¹
|  | Bottlenose dolphin, Northern GA/Southern SC estuarine system.¹
|  | Bottlenose dolphin, Northern Migratory coastal.¹
|  | Bottlenose dolphin, Northern NC estuarine system.¹
|  | Bottlenose dolphin, Northern SC estuarine system.
|  | Bottlenose dolphin, SC/GA coastal.¹
|  | Bottlenose dolphin, Southern GA estuarine system.¹
|  | Bottlenose dolphin, Southern Migratory coastal.¹
|  | Bottlenose dolphin, Southern NC estuarine system.¹
|  | West Indian manatee, FL.¹
PURSE SEINE FISHERIES:
Gulf of Mexico menhaden purse seine | 40-42 | Bottlenose dolphin, GMX bay, sound, estuarine.
|  | Bottlenose dolphin, Northern GMX coastal.¹
|  | Bottlenose dolphin, Western GMX coastal.¹
Mid-Atlantic menhaden purse seine ² | 19 | Bottlenose dolphin, Northern Migratory coastal.
|  | Bottlenose dolphin, Southern Migratory coastal.
HAUL/BEACH SEINE FISHERIES:
Mid-Atlantic haul/beach seine | 243 | Bottlenose dolphin, Northern Migratory coastal.¹
|  | Bottlenose dolphin, Northern NC estuarine system.¹
|  | Bottlenose dolphin, Southern Migratory coastal.¹
NC long haul seine | 372 | Bottlenose dolphin, Northern NC estuarine system.¹
|  | Bottlenose dolphin, Southern NC estuarine system.
STOP NET FISHERIES:
NC roe mullet stop net | 13 | Bottlenose dolphin, Northern NC estuarine system.
|  | Bottlenose dolphin, unknown (Southern migratory coastal or Southern NC estuarine system).
POUND NET FISHERIES:
VA pound net | 47 | Bottlenose dolphin, Northern migratory coastal.
|  | Bottlenose dolphin, Northern NC estuarine system.
|  | Bottlenose dolphin, Southern Migratory coastal.¹
CATEGORY III
GILLNET FISHERIES:
Caribbean gillnet | >991 | None documented in the most recent five years of data.
DE River inshore gillnet | Unknown | None documented in the most recent five years of data.
Long Island Sound inshore gillnet | Unknown | None documented in the most recent five years of data.
RI, southern MA (to Monomoy Island), and NY Bight (Raritan and Lower NY Bays) inshore gillnet | Unknown | None documented in the most recent five years of data.
Southeast Atlantic inshore gillnet | Unknown | Bottlenose dolphin, Northern SC estuarine system.
TRAWL FISHERIES:
Atlantic shellfish bottom trawl | >58 | None documented.
Gulf of Mexico butterfish trawl | 2 | Bottlenose dolphin, Northern GMX oceanic.
|  | Bottlenose dolphin, Northern GMX continental shelf.
Gulf of Mexico mixed species trawl | 20 | None documented.
GA cannonball jellyfish trawl | 1 | Bottlenose dolphin, SC/GA coastal.
MARINE AQUACULTURE FISHERIES:
Finfish aquaculture | 48 | Harbor seal, WNA.
Shellfish aquaculture | unknown | None documented.
PURSE SEINE FISHERIES:
Gulf of Maine Atlantic herring purse seine | >7 | Harbor seal, WNA.
|  | Gray seal, WNA.
Gulf of Maine menhaden purse seine | >2 | None documented.
FL West Coast sardine purse seine | 10 | Bottlenose dolphin, Eastern GMX coastal.
U.S. Atlantic tuna purse seine * | 5 | Long-finned pilot whale, WNA.
|  | Short-finned pilot whale, WNA.
LONGLINE/HOOK-AND-LINE FISHERIES:
Northeast/Mid-Atlantic bottom longline/hook-and-line | >1,207 | None documented.
Gulf of Maine, U.S. Mid-Atlantic tuna, shark swordfish hook-and-line/harpoon | 428 | Bottlenose dolphin, WNA offshore.
|  | Humpback whale, Gulf of Maine.
Southeastern U.S. Atlantic, Gulf of Mexico, and Caribbean snapper-grouper and other reef fish bottom longline/hook-and-line | >5,000 | Bottlenose dolphin, GMX continental shelf.
Southeastern U.S. Atlantic, Gulf of Mexico shark bottom longline/hook-and-line | <125 | Bottlenose dolphin, Eastern GMX coastal.
|  | Bottlenose dolphin, Northern GMX continental shelf.
Southeastern U.S. Atlantic, Gulf of Mexico, and Caribbean pelagic hook-and-line/harpoon | 1,446 | None documented.
U.S. Atlantic, Gulf of Mexico trotline | Unknown | None documented.
TRAP/POT FISHERIES
Caribbean mixed species trap/pot | >501 | None documented.
Caribbean spiny lobster trap/pot | >197 | None documented.
FL spiny lobster trap/pot | 1,268 | Bottlenose dolphin, Biscayne Bay estuarine Bottlenose dolphin, Central FL coastal.
|  | Bottlenose dolphin, Eastern GMX coastal.
|  | Bottlenose dolphin, FL Bay estuarine.
Gulf of Mexico blue crab trap/pot | 4,113 | Bottlenose dolphin, Eastern GMX coastal.
|  | Bottlenose dolphin, GMX bay, sound, estuarine.
|  | Bottlenose dolphin, Northern GMX coastal.
|  | Bottlenose dolphin, Western GMX coastal.
|  | West Indian manatee, FL.
Gulf of Mexico mixed species trap/pot | unknown | None documented.
Southeastern U.S. Atlantic, Gulf of Mexico golden crab trap/pot | 10 | None documented.
U.S. Mid-Atlantic eel trap/pot | Unknown | None documented.
STOP SEINE/WEIR/POUND NET/FLOATING TRAP FISHERIES:
Gulf of Maine herring and Atlantic mackerel stop seine/weir | >1 | Harbor porpoise, GME/BF.
|  | Harbor seal, WNA.
|  | Minke whale, Canadian east coast.
|  | Atlantic white-sided dolphin, WNA.
U.S. Mid-Atlantic crab stop seine/weir | 2,600 | None documented.
U.S. Mid-Atlantic mixed species stop seine/weir/pound net (except the NC roe mullet stop net) | Unknown | Bottlenose dolphin, Northern NC estuarine system.
RI floating trap | 9 | None documented.
DREDGE FISHERIES:
Gulf of Maine sea urchin dredge | Unknown | None documented.
Gulf of Maine mussel dredge | Unknown | None documented.
Gulf of Maine, U.S. Mid-Atlantic sea scallop dredge | >403 | None documented.
Mid-Atlantic blue crab dredge | Unknown | None documented.
Mid-Atlantic soft-shell clam dredge | Unknown | None documented.
Mid-Atlantic whelk dredge | Unknown | None documented.
U.S. Mid-Atlantic/Gulf of Mexico oyster dredge | 7,000 | None documented.
New England and Mid-Atlantic offshore surf clam/quahog dredge | Unknown | None documented.
HAUL/BEACH SEINE FISHERIES:
Caribbean haul/beach seine | 15 | None documented in the most recent five years of data.
Gulf of Mexico haul/beach seine | unknown | None documented.
Southeastern U.S. Atlantic haul/beach seine | 25 | None documented.
DIVE, HAND/MECHANICAL COLLECTION FISHERIES:
Atlantic Ocean, Gulf of Mexico, Caribbean shellfish dive, hand/mechanical collection | 20,000 | None documented.
Gulf of Maine urchin dive, hand/mechanical collection | Unknown | None documented.
Gulf of Mexico, Southeast Atlantic, Mid-Atlantic, and Caribbean cast net | Unknown | None documented.
COMMERCIAL PASSENGER FISHING VESSEL (CHARTER BOAT) FISHERIES:
Atlantic Ocean, Gulf of Mexico, Caribbean commercial passenger fishing vessel | 4,000 | Bottlenose dolphin, Biscayne Bay estuarine.
|  | Bottlenose dolphin, Central FL coastal.
|  | Bottlenose dolphin, Choctawhatchee Bay.
|  | Bottlenose dolphin, Eastern GMX coastal.
|  | Bottlenose dolphin, FL Bay.
|  | Bottlenose dolphin, GMX bay, sound, estuarine.
|  | Bottlenose dolphin, Indian River Lagoon estuarine system.
|  | Bottlenose dolphin, Jacksonville estuarine system.
|  | Bottlenose dolphin, Northern FL coastal.
|  | Bottlenose dolphin, Northern GA/Southern SC estuarine.
|  | Bottlenose dolphin, Northern GMX coastal.
|  | Bottlenose dolphin, Northern migratory coastal.
|  | Bottlenose dolphin, Northern NC estuarine.
|  | Bottlenose dolphin, Southern migratory coastal.
|  | Bottlenose dolphin, Southern NC estuarine system.
|  | Bottlenose dolphin, Southern SC/GA coastal.
|  | Bottlenose dolphin, Western GMX coastal.
List of Abbreviations and Symbols Used in Table 2: DE—Delaware; FL—Florida; GA—Georgia; GME/BF—Gulf of Maine/Bay of Fundy; GMX—Gulf of Mexico; MA—Massachusetts; NC—North Carolina; NY—New York; RI—Rhode Island; SC—South Carolina; VA—Virginia; WNA—Western North Atlantic;
¹ Fishery classified based on mortalities and serious injuries of this stock, which are greater than or equal to 50 percent (Category I) or greater than 1 percent and less than 50 percent (Category II) of the stock's PBR;
² Fishery classified by analogy;
* Fishery has an associated high seas component listed in Table 3.

Table 3—List of Fisheries—Commercial Fisheries on the High Seas
Fishery description | Number of HSFCA permits | Marine mammal species and/or stocks incidentally killed or injured
Category I
LONGLINE FISHERIES:
Atlantic Highly Migratory Species * | 86 | Atlantic spotted dolphin, WNA.
|  | Bottlenose dolphin, Northern GMX oceanic.
|  | Bottlenose dolphin, WNA offshore.
|  | Common dolphin, WNA.
|  | Cuvier's beaked whale, WNA.
|  | False killer whale, WNA.
|  | Killer whale, GMX oceanic.
|  | Kogia spp. whale (Pygmy or dwarf sperm whale), WNA.
|  | Long-finned pilot whale, WNA.
|  | Mesoplodon beaked whale, WNA.
|  | Minke whale, Canadian East coast.
|  | Pantropical spotted dolphin, WNA.
|  | Risso's dolphin, GMX.
|  | Risso's dolphin, WNA.
|  | Short-finned pilot whale, WNA.
Western Pacific Pelagic (HI Deep-set component) * ‸ | 135 | Bottlenose dolphin, HI Pelagic.
|  | False killer whale, HI Pelagic.
|  | Pantropical spotted dolphin, HI.
|  | Risso's dolphin, HI.
|  | Short-finned pilot whale, HI.
|  | Sperm whale, HI.
|  | Striped dolphin, HI
DRIFT GILLNET FISHERIES:
Pacific Highly Migratory Species * ‸ | 5 | Long-beaked common dolphin, CA.
|  | Humpback whale, CA/OR/WA.
|  | Northern right-whale dolphin, CA/OR/WA.
|  | Pacific white-sided dolphin, CA/OR/WA.
|  | Risso's dolphin, CA/OR/WA.
|  | Short-beaked common dolphin, CA/OR/WA.
Category II
DRIFT GILLNET FISHERIES:
Atlantic Highly Migratory Species | 1 | Undetermined.
TRAWL FISHERIES:
Atlantic Highly Migratory Species ** | 1 | Undetermined.
CCAMLR | 0 | Antarctic fur seal.
PURSE SEINE FISHERIES:
South Pacific Tuna Fisheries | 39 | Undetermined.
Western Pacific Pelagic | 3 | Undetermined.
LONGLINE FISHERIES:
CCAMLR | 0 | None documented.
South Pacific Albacore Troll | 15 | Undetermined.
South Pacific Tuna Fisheries ** | 8 | Undetermined.
Western Pacific Pelagic (HI Shallow-set component) * ‸ | 15 | Blainville's beaked whale, HI.
|  | Bottlenose dolphin, HI Pelagic.
|  | False killer whale, HI Pelagic.
|  | Humpback whale, Central North Pacific.
|  | Kogia spp. whale (Pygmy or dwarf sperm whale), HI.
|  | Risso's dolphin, HI.
|  | Short-beaked common dolphin, CA/OR/WA.
|  | Short-finned pilot whale, HI.
|  | Striped dolphin, HI
HANDLINE/POLE AND LINE FISHERIES:
Atlantic Highly Migratory Species | 3 | Undetermined.
Pacific Highly Migratory Species | 50 | Undetermined.
South Pacific Albacore Troll | 9 | Undetermined.
Western Pacific Pelagic | 5 | Undetermined.
TROLL FISHERIES:
Atlantic Highly Migratory Species | 2 | Undetermined.
South Pacific Albacore Troll | 38 | Undetermined.
South Pacific Tuna Fisheries ** | 5 | Undetermined.
Western Pacific Pelagic | 21 | Undetermined.
Category III
LONGLINE FISHERIES:
Northwest Atlantic Bottom Longline | 1 | None documented.
Pacific Highly Migratory Species * | 126 | None documented in the most recent 5 years of data.
PURSE SEINE FISHERIES
Pacific Highly Migratory Species * ‸ | 8 | None documented.
TRAWL FISHERIES:
Northwest Atlantic | 1 | None documented.
TROLL FISHERIES:
Pacific Highly Migratory Species * | 243 | None documented.
List of Terms, Abbreviations, and Symbols Used in Table 3: CA—California; GMX—Gulf of Mexico; HI—Hawaii; OR—Oregon; WA—Washington; WNA—Western North Atlantic.
* Fishery is an extension/component of an existing fishery operating within U.S. waters listed in Table 1 or 2. The number of permits listed in Table 3 represents only the number of permits for the high seas component of the fishery.
** These gear types are not authorized under the Pacific HMS FMP (2004), the Atlantic HMS FMP (2006), or without a South Pacific Tuna Treaty license (in the case of the South Pacific Tuna fisheries). Because HSFCA permits are valid for five years, permits obtained in past years exist in the HSFCA permit database for gear types that are now unauthorized. Therefore, while HSFCA permits exist for these gear types, it does not represent effort. In order to land fish species, fishers must be using an authorized gear type. Once these permits for unauthorized gear types expire, the permit-holder will be required to obtain a permit for an authorized gear type.
‸ The list of marine mammal species and/or stocks killed or injured in this fishery is identical to the list of marine mammal species and/or stocks killed or injured in U.S. waters component of the fishery, minus species and/or stocks that have geographic ranges exclusively in coastal waters, because the marine mammal species and/or stocks are also found on the high seas and the fishery remains the same on both sides of the EEZ boundary. Therefore, the high seas components of these fisheries pose the same risk to marine mammals as the components of these fisheries operating in U.S. waters.

Table 4—Fisheries Affected by Take Reduction Teams and Plans
Take reduction plans | Affected fisheries
Atlantic Large Whale Take Reduction Plan (ALWTRP)—50 CFR 229.32 | Category I
| Mid-Atlantic gillnet.
| Northeast/Mid-Atlantic American lobster trap/pot.
| Northeast sink gillnet.
| Category II
| Atlantic blue crab trap/pot.
| Atlantic mixed species trap/pot.
| Northeast anchored float gillnet.
| Northeast drift gillnet.
| Southeast Atlantic gillnet.
| Southeastern U.S. Atlantic shark gillnet.*
| Southeastern, U.S. Atlantic, Gulf of Mexico stone crab trap/pot.‸
Bottlenose Dolphin Take Reduction Plan (BDTRP)—50 CFR 229.35 | Category I
| Mid-Atlantic gillnet.
| Category II
| Atlantic blue crab trap/pot.
| Chesapeake Bay inshore gillnet fishery.
| Mid-Atlantic haul/beach seine.
| Mid-Atlantic menhaden purse seine.
| NC inshore gillnet.
| NC long haul seine.
| NC roe mullet stop net.
| Southeast Atlantic gillnet.
| Southeastern U.S. Atlantic shark gillnet.
| Southeastern U.S. Atlantic, Gulf of Mexico shrimp trawl.‸
| Southeastern, U.S. Atlantic, Gulf of Mexico stone crab trap/pot.‸
| VA pound net.
False Killer Whale Take Reduction Plan (FKWTRP)—50 CFR 229.37 | Category I
| HI deep-set longline.
| Category II
| HI shallow-set longline.
Harbor Porpoise Take Reduction Plan (HPTRP)—50 CFR 229.33 (New England) and 229.34 (Mid-Atlantic) | Category I
| Mid-Atlantic gillnet.
| Northeast sink gillnet.
Pelagic Longline Take Reduction Plan (PLTRP)—50 CFR 229.36 | Category I
| Atlantic Ocean, Caribbean, Gulf of Mexico large pelagics longline.
Pacific Offshore Cetacean Take Reduction Plan (POCTRP)—50 CFR 229.31 | Category I
| CA thresher shark/swordfish drift gillnet (≥14 in mesh).
Atlantic Trawl Gear Take Reduction Team (ATGTRT) | Category II
| Mid-Atlantic bottom trawl.
| Mid-Atlantic mid-water trawl (including pair trawl).
| Northeast bottom trawl.
| Northeast mid-water trawl (including pair trawl).
* Only applicable to the portion of the fishery operating in U.S. waters; ‸Only applicable to the portion of the fishery operating in the Atlantic Ocean.

Classification

The Chief Counsel for Regulation of the Department of Commerce has certified to the Chief Counsel for Advocacy of the Small Business Administration (SBA) that this rule would not have a significant economic impact on a substantial number of small entities. On June 12, 2014, the Small Business Administration (SBA) issued a final rule revising the small business size standards for several industries effective July 14, 2014 (79 FR 33647). The rule increased the size standard for Finfish Fishing from $19.0 to $20.5 million, Shellfish Fishing from $5.0 to $5.5 million, and Other Marine Fishing from $7.0 to $7.5 million. NMFS has reviewed the analyses prepared for this action in light of the new size standards. Under the former, lower size standards, all entities subject to this action were considered small entities, thus they all would continue to be considered small under the new standards. The factual basis leading to the certification is set forth below.

Under existing regulations, all individuals participating in Category I or II fisheries must register under the MMPA and obtain an Authorization Certificate. The Authorization Certificate authorizes the taking of non-endangered and non-threatened marine mammals incidental to commercial fishing operations. Additionally, individuals may be subject to a TRP and requested to carry an observer. NMFS has estimated that up to approximately 58,500 fishing vessels, most with annual revenues below the SBA's small entity thresholds, may operate in Category I or II fisheries. As fishing vessels operating in Category I or II fisheries, they are required to register with NMFS. Forty-five fishing vessels are new to Category II as a result of this proposed rule. The MMPA registration process is integrated with existing state and Federal licensing, permitting, and registration programs. Therefore, individuals who have a state or Federal fishing permit or landing license, or who are authorized through another related state or Federal fishery registration program, are currently not required to register separately under the MMPA or pay the $25 registration fee. Therefore, this proposed rule would not impose any direct costs on small entities. Record keeping and reporting costs associated with this rulemaking are minimal and would not have a significant impact on a substantial number of small entities.

If a vessel is requested to carry an observer, vessels will not incur any direct economic costs associated with carrying that observer. In addition, section 118 of the MMPA states that an observer is not required to be placed on a vessel if the facilities for quartering an observer or performing observer functions are inadequate or unsafe, thereby exempting vessels too small to accommodate an observer from this requirement. As a result of this certification, an initial regulatory flexibility analysis is not required and has not been prepared. In the event that reclassification of a fishery to Category I or II results in a TRP, economic analyses of the effects of that TRP would be summarized in subsequent rulemaking actions.

This proposed rule contains collection-of-information requirements subject to the Paperwork Reduction Act. The collection of information for the registration of individuals under the MMPA has been approved by the Office of Management and Budget (OMB) under OMB control number 0648-0293 (0.15 hours per report for new registrants and 0.09 hours per report for renewals). The requirement for reporting marine mammal mortalities or injuries has been approved by OMB under OMB control number 0648-0292 (0.15 hours per report). These estimates include the time for reviewing instructions, searching existing data sources, gathering and maintaining the data needed, and completing and reviewing the collection of information. Send comments regarding these reporting burden estimates or any other aspect of the collections of information, including suggestions for reducing burden, to NMFS and OMB (see ADDRESSES and SUPPLEMENTARY INFORMATION).

Notwithstanding any other provision of law, no person is required to respond to nor shall a person be subject to a penalty for failure to comply with a collection of information subject to the requirements of the Paperwork Reduction Act unless that collection of information displays a currently valid OMB control number.

This proposed rule has been determined to be not significant for the purposes of Executive Order 12866.

An environmental assessment (EA) was prepared under the National Environmental Policy Act (NEPA) in 1995 and 2005. The 1995 EA examined the effects of regulations implementing section 118 of the 1994 Amendments of the MMPA on the affected environment. The 2005 EA analyzed the environmental impacts of continuing the existing scheme (as described in the 1995 EA) for classifying fisheries on the LOF. The 1995 EA and the 2005 EA concluded that implementation of MMPA section 118 regulations would not have a significant impact on the human environment. NMFS reviewed the 2005 EA in 2009. NMFS concluded that because there were no changes to the process used to develop the LOF and implement section 118 of the MMPA, there was no need to update the 2005 EA. This rule would not change NMFS' current process for classifying fisheries on the LOF; therefore, this rule is not expected to change the analysis or conclusion of the 2005 EA and FONSI, and no update is needed. If NMFS takes a management action, for example, through the development of a TRP, NMFS would first prepare an environmental document, as required under NEPA, specific to that action.

This proposed rule would not affect species listed as threatened or endangered under the Endangered Species Act (ESA) or their associated critical habitat. The impacts of numerous fisheries have been analyzed in various biological opinions, and this rule will not affect the conclusions of those opinions. The classification of fisheries on the LOF is not considered to be a management action that would adversely affect threatened or endangered species. If NMFS takes a management action, for example, through the development of a TRP, NMFS would consult under ESA section 7 on that action.

This proposed rule would have no adverse impacts on marine mammals and may have a positive impact on marine mammals by improving knowledge of marine mammals and the fisheries interacting with marine mammals through information collected from observer programs, stranding and sighting data, or take reduction teams.

This proposed rule would not affect the land or water uses or natural resources of the coastal zone, as specified under section 307 of the Coastal Zone Management Act.

References

Allen, B.M. and R.P. Angliss, editors. 2015. Alaska Marine Mammal Stock Assessments, 2014. NOAA Tech. Memo. NMFS-AFSC-301. 270 p.

Carretta, J.V., E. Oleson, D.W. Weller, A.R. Lang, K.A. Forney, J. Baker, B. Hanson, K Martien, M.M. Muto, M.S. Lowry, J. Barlow, D. Lynch, L. Carswell, R.L. Brownell Jr., D.K. Mattila, and M.C. Hill. 2015. U.S. Pacific Marine Mammal Stock Assessments: 2014. NOAA Technical Memorandum NOAA-TM-NMFS-SWFSC-549. 78 p.

Garrison, L.P. and Stokes, L. 2014. Estimated Bycatch of Marine Mammals and Sea Turtles in U.S. Atlantic Pelagic Longline Fleet During 2013. NOAA Technical Memorandum NOAA-NMFS-SEFSC-667: 6lp.

McCracken, M.L. Assessment of Incidental Interactions with Marine Mammals in the Hawaii Deep and Shallow Set Fisheries from 2008 through 2012. NMFS Pacific Islands Fisheries Science Center, PIFSC Internal Report IR-14-006. 1 p. + Excel spreadsheet.

Waring, G.T., E. Josephson, K. Maze-Foley, and P.E. Rosel, editors. 2015. U.S. Atlantic and Gulf of Mexico Marine Mammal Stocks Assessments, 2014. NOAA Technical Memorandum NOAA-NE-231. 355 p.

Dated: September 17, 2015.
Samuel D. Rauch III,
Deputy Assistant Administrator for Regulatory Programs, National Marine Fisheries Service.

[FR Doc. 2015-24638 Filed 9-28-15; 8:45 am]

BILLING CODE 3510-22-P